DEPARTMENT OF ENERGY

Biomass Research and Development Technical Advisory Committee

AGENCY: Department of Energy, Office of Energy Efficiency and Renewable Energy.

ACTION: Notice of Open Meeting.

SUMMARY: This notice announces an open meeting of the Biomass Research and Development Technical Advisory Committee under the Biomass Research and Development Act of 2000. The Federal Advisory Committee Act (Pub. L. No. 92-463, as amended) requires that agencies publish these notices in the Federal Register to allow for public participation. This notice announces the meeting of the Biomass Research and Development Technical Advisory Committee.

Dates and Times: May 20, 2008 at 12:30 p.m. to 5 p.m., May 21, 2008 at 8 a.m. to 12:30 p.m.

ADDRESSES: Iowa Corn Promotion Board—Board Room, 5505 NW 88th Street, Johnston, Iowa 50131, Phone: (515) 225-9242.

FOR FURTHER INFORMATION CONTACT: Valri Lightner, Designated Federal Officer for the Committee, Office of Energy Efficiency and Renewable Energy, U.S. Department of Energy, 1000 Independence Avenue, SW., Washington, DC 20585; (202) 586-0937 or Carolyn Clark at (202) 586-8077; E-mail: cclark@bcs-hq.com.

SUPPLEMENTARY INFORMATION: Purpose of Meeting: To provide advice and guidance that promotes research and development leading to the production of biobased fuels and biobased products.

Tentative Agenda: Agenda will include the following:

• Update on the 2007 Joint Solicitation and Farm Bill;

• Update on the 2008 Joint Solicitation and Biomass R&D Board Activities;

• Update on FY 2008 and FY 2009 USDA Renewable Energy Budget;

• Discussion of FY 2008 Annual Recommendations;

• Presentation on the Future State of Cellulosic Biofuels.

Public Participation: In keeping with procedures, members of the public are welcome to observe the business of the Biomass Research and Development Technical Advisory Committee. To attend the meeting and/or to make oral statements regarding any of the items on the agenda, you should contact Valri Lightner at 202-586-0937; E-mail: valri.lightner@ee.doe.gov or Carolyn Clark at (202) 586-8077; E-mail: cclark@bcs-hq.com. You must make your request for an oral statement at least 5 business days before the meeting. Members of the public will be heard in the order in which they sign up at the beginning of the meeting. Reasonable provision will be made to include the scheduled oral statements on the agenda. The Chair of the Committee will make every effort to hear the views of all interested parties. If you would like to file a written statement with the Committee, you may do so either before or after the meeting. The Chair will conduct the meeting to facilitate the orderly conduct of business.

Minutes: The minutes of the meeting will be available for public review and copying at the Freedom of Information Public Reading Room; Room 1E-190; Forrestal Building; 1000 Independence Avenue, SW., Washington, DC, between 9 a.m. and 4 p.m., Monday through Friday, except Federal holidays.

Issued at Washington, DC on April 28, 2008.
Rachel Samuel,
Deputy Committee Management Officer.

[FR Doc. E8-9676 Filed 5-1-08; 8:45 am]

BILLING CODE 6450-01-P